DEPARTMENT OF ENERGY

Federal Energy Regulatory Commission

[Docket No. NJ10-1-000]

Western Area Power Administration; Notice of Filing

October 6, 2009.

Take notice that on October 1, 2009, Western Area Power Administration filed proposed revisions to the terms of it's non-jurisdictional Open Access Transmission Tariff, pursuant to the Federal Energy Regulatory Commission's Order Nos. 890, 890-A, 890-B, and 890-C,¹ and sections 35.28(e) and (f)(iv)(2) of the Commission's Regulations.²

¹ Preventing Undue Discrimination and Preference in Transmission Service, Order No. 890, 72 FR 12,266 (March 15, 2007), FERC Stats. & Regs. ¶ 31,241 (2007), order on reh'g, Order No. 890-A, 73 FR 2984 (Jan. 16, 2008), FERC Stats. & Regs. ¶ 31,261 (2007), order on reh'g, Order No. 890-B, 73 FR 39,092 (Jul. 8, 2008), 123 FERC ¶ 61,299 (2008), order on reh'g, Order No. 890-C, 74 FR 12,540 (March 25, 2009), 126 FERC ¶ 61,228 (2009) (collectively, Order No. 890).

² 18 CFR 35.28(e) and (f) (2008).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 2, 2009.

Kimberly D. Bose,
Secretary.

[FR Doc. E9-24576 Filed 10-13-09; 8:45 am]

BILLING CODE 6717-01-P